SECURITIES AND EXCHANGE COMMISSION

[File No. 22-28498]

Application and Opportunity for Hearing; Allied Waste North America, Inc.

July 2, 2001.

The Securities and Exchange Commission gives notice hereby that Allied Waste North America, Inc. has filed an application pursuant to section 304(d) of the Trust Indenture Act of 1939 requesting that the Commission exempt from the requirements of section 314(d) of the 1939 Act the 8⅞% Senior Notes due 2008 under an indenture dated December 23, 1998, and supplemented by an indenture dated January 30, 2001, between Allied Waste North America, Inc. and U.S. Bank Trust National Association. The 8⅞% Senior Notes due 2008 under the indenture will be issued as part of an exchange offer registered on Allied Waste North America's registration statement on Form S-4, File No. 333-61744. The exchange offer will be made to institutional purchasers of similar securities in unregistered transactions relying on Rule 144A of the Securities Act of 1933.

Section 304(d) of the 1939 Act, in part, authorizes the Commission to exempt conditionally or unconditionally any indenture from one or more provisions of the 1939 Act. The Commission may provide an exemption under section 304(d) if it finds that the exemption is necessary or appropriate in the public interest and consistent with the protection of investors and the purposes fairly intended by the 1939 Act.

Section 314(d) requires the obligor to furnish to the indenture trustee certificates or opinions of fair value upon any release of collateral from the lien of the indenture. The application requests that the indenture be exempted from the provisions of section 314(d) because section 314(d) is not intended to apply to indentures that do not contain the provisions creating the security interest.

In its application, Allied Waste North America, Inc. alleges:

(1) The notes to be issued under the indenture are secured by agreements that are external to the indenture;

(2) Decisions regarding whether collateral is maintained or released are made by a party other than the indenture trustee;

(3) Neither the indenture trustee nor the holders of the indenture securities have any control over these decisions; and

(4) The collateral securing the indenture securities also secures other debt.

Allied Waste North America, Inc., has waived notice of a hearing, and any and all rights to specify procedures under the Rules of Practice of the Commission in connection with this matter. Any interested persons should look to the application for a more detailed statement of the matters of fact and law. The application is on file in the Commission's Public Reference Section, File Number 22-28498, 450 Fifth Street, NW., Washington, DC 20549.

The Commission also gives notice that any interested persons may request in writing that a hearing be held on this matter. Interested persons must submit those request to the Commission no later than August 7, 2001. Interested persons must include the following in their request for a hearing on this matter:

• The nature of that person's interest;

• The reasons for the request; and

• The issues of law or fact raised by the application that the interested person desires to refute or request a hearing on.

The interested person should address this request for a hearing to: Secretary, U.S. Securities and Exchange Commission, 450 Fifth Street, NW., Washington, DC 20549-0609. At any time after August 7, 2001, the Commission may issue an order granting the application, unless the Commission orders a hearing.

For the Commission, by the Division of Corporation Finance, pursuant to delegated authority.
Jonathan G. Katz,
Secretary.

[FR Doc. 01-17132 Filed 7-9-01; 8:45 am]

BILLING CODE 8010-01-M